DEPARTMENT OF AGRICULTURE

Commodity Credit Corporation

7 CFR Part 1468

[Docket No. NRCS-2014-0011]

RIN 0578-AA61

Agricultural Conservation Easement Program

AGENCY: The Natural Resources Conservation Service (NRCS) and the Commodity Credit Corporation (CCC), United States Department of Agriculture (USDA).

ACTION: Interim rule; reopening of comment period.

SUMMARY: NRCS and CCC published an interim rule for the Agricultural Conservation Easement Program (ACEP) with a request for comments, and a comment period ending April 28, 2015. This document reopens the comment period.

DATES: The comment period for the interim rule for ACEP (80 FR 11032, Feb. 27, 2015) is hereby reopened and will end Thursday, May 28, 2015.

ADDRESSES: Comments may be submitted by one of the following methods:

• Federal e-Rulemaking Portal: http://www.regulations.gov. Follow the instructions for submitting comments for Docket No. NRCS-2014-0011.

• Mail or hand delivery: Public Comments Processing, Attention: Docket No. NRCS-2014-0011, Regulatory and Agency Policy Team, Strategic Planning and Accountability, U.S. Department of Agriculture, Natural Resources Conservation Service, 5601 Sunnyside Avenue, Building 1-1112D, Beltsville, Maryland 20705.

NRCS will post all comments on http://www.regulations.gov. Personal information provided with comments will be posted. If your comment includes your address, phone number, email address, or other personal identifying information, please be aware that your entire comment, including your personal information, will be made publicly available. Do not include personal information with your comment submission if you do not wish for it to be made public. This interim rule may be accessed via Internet. Users can access the NRCS homepage at: http://www.nrcs.usda.gov/; select the Farm Bill link from the menu; select the Interim final link from beneath the Final and Interim rules Index title under the heading “2014 NRCS Farm Bill Conservation Program Rules.” Select Agricultural Conservation Easement Program.

FOR FURTHER INFORMATION CONTACT: Kim Berns, Acting Deputy Chief for Programs, at 202-720-1882.

Persons with disabilities who require alternative means for communication (e.g., Braille, large print, audio tape, etc.) should contact the USDA Technology and Accessible Resources Give Employment Today Center at 202-720-2600 (voice and TDD).

SUPPLEMENTARY INFORMATION: In response to requests from the public, the comment period for this rule is being reopened to provide the public additional time to submit comments.

Signed this 24th day of April, 2015, in Washington, DC.
Leonard Jordon,
Acting Chief, Natural Resources Conservation Service, Acting Vice President, Commodity Credit Corporation.

[FR Doc. 2015-10055 Filed 4-29-15; 8:45 am]

BILLING CODE 3410-16-P